DEPARTMENT OF JUSTICE

Antitrust Division

Notice Pursuant To the National Cooperative Research and Production Act of 1993—American Society of Agricultural Engineers

Notice is hereby given that, on September 21, 2004, pursuant to section 6(a) of the National Cooperative Research and Production Act of 1993, 15 U.S.C. 4301 et seq. (“the Act”), American Society of Agricultural Engineers (“ASAE”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Society of Agricultural Engineers, St. Joseph, MI. The nature and scope of ASAE's standards development activities are: ASAE serves as the primary U.S. developer of standards, engineering practices and data (collectively referred to as standards) for engineering applicable to agricultural, food, and biological systems. The scope of these documents encompasses, but is not limited to, the following subject areas: agricultural equipment; biological and biological systems engineering; natural resources management; irrigation and drainage; agricultural structures and environment; livestock production; food and bioprocess engineering; information and electrical technologies; forest engineering; energy production and distribution for agricultural locales and operations; renewable fuels and biomass; aquacultural engineering; nursery and greenhouse operations; and agricultural safety and rural health.

Dorothy B. Fountain,
Deputy Director of Operations, Antitrust Division.

[FR Doc. 04-23504 Filed 10-20-04; 8:45 am]

BILLING CODE 4410-11-M